DEPARTMENT OF THE INTERIOR

National Park Service

[NPS-WASO-NAGPRA-NPS0026436; PPWOCRADN0-PCU00RP14.R50000]

Notice of Inventory Completion: Sternberg Museum of Natural History, Hays, KS

AGENCY: National Park Service, Interior.

ACTION: Notice.

SUMMARY: The Sternberg Museum of Natural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Sternberg Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Sternberg Museum of Natural History at the address in this notice by November 16, 2018.

ADDRESSES: Dr. Laura E. Wilson, Sternberg Museum of Natural History, 3000 Sternberg Drive, Hays, KS 67601, telephone (785) 639-6192, email lewilson6@fhsu.edu.

SUPPLEMENTARY INFORMATION: Notice is here given in accordance with the Native American Graves Protection and Repatriation Act (NAGPRA), 25 U.S.C. 3003, of the completion of an inventory of human remains and associated funerary objects under the control of the Sternberg Museum of Natural History, Hays, KS. The human remains and associated funerary objects were removed from Nogales, Santa Cruz County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sternberg Museum of Natural History professional staff in consultation with representatives of Tohono O'odham Nation of Arizona.

History and Description of the Remains

In 1928, human remains representing, at minimum, two individuals were removed from Nogales, in Santa Cruz County, AZ. Two ollas, each of which contained the cremated remains of one individual, were uncovered during an operation to lower and pave a street. The two ollas were donated by Mr. James W. Haddock of Nogales High School in 1929. No known individuals were identified.

According to a letter from Mr. Haddock, Dr. Dean Cummings of the University of Arizona supervised the excavation of the ollas. Dr. Cummings identified the ollas as belonging to the “Pithouse Indians and about 2000 years old.” Mr. Peter Steere, Tribal Historic Preservation Officer for the Tohono O'odham Nation Cultural Center & Museum, identified the ollas as Hohokam plain ware vessels that date to A.D. 1000-1400. The Hohokam are regarded as the ancestors of the Tohono O'odham, and the Nogales area of Southern Arizona is within the geographic area covered by the Tohono O'odham Nation under NAGPRA repatriation.

Determinations Made by the Sternberg Museum of Natural History

Officials of the Sternberg Museum of Natural History have determined that:

• Pursuant to 25 U.S.C. 3001(9), the human remains described in this notice represent the physical remains of two individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and associated funerary objects and the Tohono O'odham Nation of Arizona.

Additional Requestors and Disposition

Lineal descendants or representatives of any Indian Tribe or Native Hawaiian organization not identified in this notice that wish to request transfer of control of these human remains and associated funerary objects should submit a written request with information in support of the request to Dr. Laura E. Wilson, Sternberg Museum of Natural History, 3000 Sternberg Drive, Hays, KS 67601, telephone (785) 639-6192, email lewilson6@fhsu.edu, by November 16, 2018. After that date, if no additional requestors have come forward, transfer of control of the human remains and associated funerary objects to the Tohono O'odham Nation of Arizona may proceed.

The Sternberg Museum of Natural History is responsible for notifying the Tohono O'odham Nation of Arizona that this notice has been published.

Dated: September 6, 2018.
Melanie O'Brien,
Manager, National NAGPRA Program.

[FR Doc. 2018-22587 Filed 10-16-18; 8:45 am]

BILLING CODE 4312-52-P